COMMITTEE FOR PURCHASE FROM PEOPLE WHO ARE BLIND OR SEVERELY DISABLED

Procurement List; Proposed Additions

AGENCY: Committee for Purchase From People Who Are Blind or Severely Disabled.

ACTION: Proposed additions to the procurement list.

SUMMARY: The Committee is proposing to add to the Procurement List products and a service to be furnished by nonprofit agencies employing persons who are blind or have other severe disabilities.

Comments Must be Received on or Before: January 7, 2008.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Kimberly M. Zeich, Telephone: (703) 603-7740, Fax: (703) 603-0655, or e-mail CMTEFedReg@jwod.gov.

SUPPLEMENTARY INFORMATION: This notice is published pursuant to 41 U.S.C 47(a)(2) and 41 CFR 51-2.3. Its purpose is to provide interested persons an opportunity to submit comments on the proposed actions.

If the Committee approves the proposed additions, the entities of the Federal Government identified in the notice for each product or service will be required to procure the products and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and service to the Government.

2. If approved, the action will result in authorizing small entities to furnish the products and service to the Government.

3. There are no known regulatory alternatives which would accomplish the objectives of the Javits-Wagner-O'Day Act (41 U.S.C. 46-48c) in connection with the products and service proposed for addition to the Procurement List.

Comments on this certification are invited. Commenters should identify the statement(s) underlying the certification on which they are providing additional information.

End of Certification

The following products and services are proposed for addition to Procurement List for production by the nonprofit agencies listed:

Products

Brush, Dish, Ergo, Soap Squirting & Refill

NSN: M.R. 871.

NSN: M.R. 872.

Coverage: C-List for the requirements of the Defense Commissary Agency, Fort Lee, VA.

NPA: Cincinnati Association for the Blind, Cincinnati, OH.

Liner, Low Density, Linear

NSN: 8105-00-NIB-1292.

Coverage: C-List for the requirements of the Defense Commissary Agency, Fort Lee, VA.

NPA: Envision, Inc., Wichita, KS.

Contracting Activity: Defense Commissary Agency (DeCA), Fort Lee, VA.

Pallet, Demo Sideboard

NSN: 3990CAAA9243—30” X 44”.

Coverage: C-List for the requirements of the Crane Army Ammunition Activity, Crane, IN.

NPA: Bona Vista Programs, Inc., Kokomo, IN.

Contracting Activity: U.S. Department of the Defense, Crane Army Ammunition Activity, Crane, IN.

Service

Service Type/Location: Custodial Services, National Institute of Standards & Technology (NIST), Facility-Wide, Gaithersburg, MD.

NPA: Didlake, Inc., Manassas, VA.

Contracting Activity: National Institutes of Standards & Technology, Gaithersburg, MD.

Kimberly M. Zeich,
Director, Program Operations.

[FR Doc. E7-23790 Filed 12-6-07; 8:45 am]

BILLING CODE 6353-01-P